DEPARTMENT OF ENERGY

Energy Information Administration

Agency Information Collection Activities: Proposed Collection; Comment Request

AGENCY: Energy Information Administration (EIA), Department of Energy (DOE).

ACTION: Agency Information Collection Activities: Proposed Collection Update; Informational.

SUMMARY: The EIA issued a Proposed Collection Comment Request on “Report of Refinery Outages,” 73 FR 10745, Thursday, February 28, 2008. EIA is postponing a decision on pursuing this survey until spring 2009. This notice is an informational update on the reason for EIA's postponement of decision and EIA's activities in this area.

FOR FURTHER INFORMATION CONTACT: Joanne Shore by e-mail at joanne.shore@eia.doe.gov or by telephone at 202-586-4677.

SUPPLEMENTARY INFORMATION:

I. Background

EIA recognizes the importance of understanding and anticipating supply changes that could add to already high prices being paid by consumers for petroleum products. Refinery availability is an important element of this issue, and was highlighted in Section 804 of the Energy Independence and Security Act of 2007 (Pub. L. 110-140), requiring EIA to assess the impact of planned outages using commercially available data. Before EIA could implement Section 804, Congressional interest increased in having EIA collect such data, partially as a result of unusually high refinery outages in 2007. In response, EIA put out a Federal Register notice on February 2008 (Proposed Collection Comment Request on “Report of Refinery Outages,” 73 FR 10745, Thursday, February 28, 2008) to solicit comments on collecting such data. The EIA data collection would be an enhancement to the monthly refinery survey (Form EIA-810). In addition, the Department of Energy's Office of Electricity Delivery and Energy Reliability (OE) put out a Federal Register notice in July 2008 (Notice and Request for Comments on Proposal for a Refinery Disruption and Incident Report, 73-FR 37451, July 1, 2008, http://www.oe.netl.doe.gov/docs/FRN_RefDisrupt070108.pdf) to collect complementary after-the-fact outage information on a short-term, real-time basis in order to monitor ongoing issues as part of its role in monitoring potential supply emergencies. A second Federal Register notice on this proposed emergency report was published on November 5, 2008, taking into consideration comments received after the first notice. Public comments are being solicited through December 5, 2008, on the proposed emergency form and instructions (Proposed Agency Information Collection, 73-FR 65841, November 5, 2008, http://www.oe.netl.doe.gov/docs/FRN_RefDisrupt110508.pdf). EIA's data collection on planned outages would necessarily be prospective, but any historical outage information in an EIA survey would ultimately reflect those reported in the proposed DOE Refinery Emergency Disruption and Incident Report.

Prior to the February 2008 EIA Federal Register Notice, EIA had looked at potentially collecting outage data or alternatively using commercial data. EIA's review of commercial outage data indicated that such data is relatively comprehensive. It captures most significant outages; contains unit-by-unit outages for individual refineries (thereby serving many State-specific informational needs as well as Federal needs for estimating supply impacts); and may be able to be shared in a useable form with State energy officials more economically than a government survey. However, the commercial data does not contain production impacts.

A government data collection would more likely capture all refinery outage plans, but differences from commercial data may be small. Government-collected data could potentially have greater credibility and could add information on potential impacts on product output. However, government collection would cost the Federal government more than using commercial data and would take several years of data to accumulate adequate history to be useful.

In addition to cost considerations, data quality differences between commercial data and an EIA collection must be considered. EIA does not currently collect planned refinery unit outages. Rather, outages are reflected retrospectively in EIA's historical inputs to major refinery units, although there is no distinction between planned and unplanned outages, or between outages as a whole and economically-driven utilization decisions in the refinery input data. However, commercial data is available that reflects planned unit outages, as well as unplanned and planned historical outages.

Reporting planning information is not the same as reporting historical data. While an EIA data collection could be somewhat more accurate than a commercial data source, EIA's experience with collecting “planned” activities is that such data inherently have an element of uncertainty because plans shift and actual maintenance may take more or less time than planned.

Commercial data does not contain impacts of outages on production, although some private firms estimate aggregate impacts from outages. EIA already collects data on historical inputs to major refinery processing units. As outages occur, unit inputs decline. EIA has used these data to estimate outage impacts on production. If EIA were to collect refinery estimates of planned unit outage impacts on production, results still would be uncertain, would involve different methods of estimation by different refiners, and would only provide an indicator of supply changes. Having EIA specify estimation methods for determining planned outage impacts on production would not necessarily improve the accuracy, as different methods may be appropriate for different refinery situations. Whether using commercial data or government-collected data, EIA will have to do extensive analyses to make a supply-adequacy determination. That is, one data option will not provide savings in analytical effort over the other option.

The responses to the EIA Federal Register notice did not shed further light on EIA's earlier assessment. The comments opposing government data collection questioned the usefulness of the data in affecting the market, difficulties in obtaining consistent information, and the large burden needed to respond. Comments supporting the collection felt the information would be helpful in preparing States or regions for potential supply problems and noted commercial data is not readily available to States or the public. Comments on both sides noted that if a survey is proposed, more clarification on information to be collected is needed.

II. Current Actions

EIA could not begin a refinery outage data collection before 2010. The approval process and time needed for both industry and the government to make appropriate systems changes preclude a 2009 collection. Furthermore, EIA's resources are fully engaged in changing forms to meet EPACT 2005 requirements and other changes.

The retrospective real-time survey of refinery outages, first proposed by DOE in its July Federal Register notice, could meet some of the needs listed in the comments made by the National Association of State Energy Officials (NASEO) in response to EIA's comment request. However, the revised form in DOE's subsequent (November) Federal Register notice no longer seeks to collect information on actions taken, units or processes affected, and estimated production impacts. Also, NASEO was not familiar with the extent of commercially available data. It may be more cost-effective for the Federal government to pay for State access to commercial information than to collect it itself.

Since EIA is moving ahead to produce reports on planned outages using commercial data, and since it is not possible to begin a new collection immediately, EIA proposes to postpone a decision on this data collection until spring 2009. This will allow some additional time to assess the adequacy of the commercial data and EIA's analysis using that data to meet State and Congressional concerns. It also will provide the time for DOE to finalize its emergency report survey, providing EIA with the information to determine which State and Congressional concerns the DOE survey may ultimately address. Last, a spring decision date will give EIA more time to revisit potential government survey costs and industry burden associated with a government collection. In the interim, EIA will work with the Congress and the States (the latter through the NASEO) to determine if existing information and associated analyses can be used to meet their needs.

Should the EIA determine a survey is necessary, a Federal Register notice will be issued with the proposed survey form and another opportunity for comments will be provided. A survey proposal would fall under the Federal Energy Administration Act of 1974 (Pub. L. 93-275, 15 U.S.C. 761 et seq.) and the DOE Organization Act (Pub. L. 95-91, 42 U.S.C. 7101 et seq.), which require the EIA to carry out a centralized, comprehensive, and unified energy information program. This program collects, evaluates, assembles, analyzes, and disseminates information on energy resource reserves, production, demand, technology, and related economic and statistical information. This information is used to assess the adequacy of energy resources to meet near- and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received following a survey proposal help the EIA prepare data requests that maximize the utility of the information collected, and to assess the impact of collection requirements on the public. Also, the EIA would later seek approval for this collection by the Office of Management and Budget (OMB) under Section 3507(a) of the Paperwork Reduction Act of 1995.

Issued in Washington, DC, December 2, 2008.
Patricia Breed,
Executive Assistant, Energy Information Administration.

[FR Doc. E8-29086 Filed 12-8-08; 8:45 am]

BILLING CODE 6450-01-P